FEDERAL RESERVE SYSTEM

Agency Information Collection Activities: Notice; Correction

SUMMARY: The Board of Governors of the Federal Reserve System published in the Federal Register of March 16, 2012, a document finalizing proposed revisions to the Consolidated Financial Statements for Bank Holding Companies (BHC). This document corrects typographical errors in the document.

FOR FURTHER INFORMATION CONTACT: Federal Reserve Board Clearance Officer—Cynthia Ayouch—Division of Research and Statistics, Board of Governors of the Federal Reserve System, Washington, DC 20551 (202-452-3829). Telecommunications Device for the Deaf (TDD) users may contact (202-263-4869), Board of Governors of the Federal Reserve System, Washington, DC 20551.

SUPPLEMENTARY INFORMATION: The Board published in the Federal Register of March 16, 2012 (77 FR 15755), a document finalizing proposed revisions to the Consolidated Financial Statements for Bank Holding Companies. The document (FR Doc. 2012-6332) announced the approval of mandatory financial information collection on BHCs between on-site inspections and contained two typographical errors. In Agency Collection Activities: Announcement of Approval, FR Doc. 2012-6332, published on March 16, 2012, make the following corrections:

Final Approval Under OMB Delegated Authority of the Revision, Without Extension, of the Following Reports—[CORRECTED]

1. On page 15755, in center of the page on the second column, under the heading Final Approval Under OMB Delegated Authority of the Revision, Without Extension, of the Following Reports, lines 9 through 12, correct:

“Estimated annual reporting hours: 192,561 hours.” to read “Estimated annual reporting hours: 184,188 hours.” and

“Estimated average hours per response: 47.15 hours.” to read “Estimated average hours per response: 45.10 hours.”

Board of Governors of the Federal Reserve System, March 29, 2012.
Jennifer J. Johnson,
Secretary of the Board.

[FR Doc. 2012-8032 Filed 4-3-12; 8:45 am]

BILLING CODE 6210-01-P